DEPARTMENT OF DEFENSE

Office of the Secretary

[Docket ID: DoD-2009-OS-0023]

Privacy Act of 1974; Systems of Records

AGENCY: Defense Finance and Accounting Service, DoD.

ACTION: Notice to amend a system of records.

SUMMARY: The Defense Finance and Accounting Service (DFAS) is proposing to amend a systems of records notice in its inventory of record systems subject to the Privacy Act of 1974, (5 U.S.C. 552a), as amended.

DATES: This proposed action will be effective without further notice on March 23, 2009 unless comments are received which would result in a contrary determination.

ADDRESSES: Send comments to the Defense Finance and Accounting Service, FOIA/PA Program Manager, Corporate Communications and Legislative Liaison, 8899 E. 56th Street, Indianapolis, IN 46249-0150.

FOR FURTHER INFORMATION CONTACT: Ms. Linda Krabbenhoft at (303) 589-3510.

SUPPLEMENTARY INFORMATION: The Defense Finance and Accounting Service systems of notices subject to the Privacy Act of 1974 (5 U.S.C. 552a), as amended, have been published in the Federal Register and are available from the address above.

The specific changes to the records system being amended is set forth below followed by the notice, as amended, published in its entirety. The proposed amendment is not within the purview of subsection (r) of the Privacy Act of 1974, (5 U.S.C. 552a), as amended, which requires the submission of a new or altered system report.

Dated: February 12, 2009.
Morgan E. Frazier,
Alternate OSD Federal Register Liaison Officer, Department of Defense.

T7332

System Name:

Defense Debt Management System (DDMS) (June 27, 2002, 67 FR 43292).

Changes:

* * * * *

System location:

Delete entry and replace entry with “Defense Finance and Accounting Service, Indianapolis, 8899 E. 56th Street, Indianapolis, IN 46249-2700.”

* * * * *

Storage:

Delete entry and replace entry with “Paper file folders and electronic storage media.”

* * * * *

Safeguards:

Delete entry and replace entry with “Records are maintained in a controlled facility. Physical entry is restricted by the use of locks, guards, and is accessible only to authorized personnel. Access to records is limited to person(s) responsible for servicing the record in performance of their official duties and who are properly screened and cleared for need-to-know. Access to computerized data is restricted by passwords, which are changed periodically.”

* * * * *

System manager(s) and address:

Delete entry and replace with “Chief, Debt Management Systems Division, Directorate of Debt and Claims Management, Defense Finance and Accounting Service, Indianapolis, 8899 E. 56th Street, Indianapolis, IN 46249-2700.”

Notification procedure:

Delete entry and replace with “Individuals seeking to determine whether information about themselves is contained in this system should address written inquiries to the Defense Finance and Accounting Service—Indianapolis, DFAS-HAC/IN, 8899 E. 56th Street, Indianapolis, IN 46249-0150.

The individuals should furnish their name, Social Security Number, telephone number, and reasonably describe the information they are seeking.”

Record access procedures:

Delete entry and replace with “Individuals seeking access to information about themselves contained in this system of records should address written inquiries to the Defense Finance and Accounting Service—Indianapolis, DFAS-HAC/IN, 8899 E. 56th Street, Indianapolis, IN 46249-0150.

The individuals should furnish their name, Social Security Numbers, and reasonably describe the information they are seeking.”

* * * * *

Contesting record procedures:

Delete entry and replace with “The DFAS rules for accessing records, for contesting contents and appealing initial agency determinations are published in DFAS Regulation 5400.11-R; 32 CFR part 324; or may be obtained from the Freedom of Information/Privacy Act Program Manager, at Corporate Communications and Legislative Liaison, 8899 E. 56th Street, Indianapolis, IN 46249-0150.”

* * * * *

T7332

System name:

Defense Debt Management System.

System location:

Defense Finance and Accounting Service, Indianapolis, 8899 E. 56th Street, Indianapolis, IN 46249-2700.

Categories of individuals covered by the system:

Individuals who are indebted to a Department of Defense (DoD) agency that have transferred debts to the Defense Debt Management System serviced by the Defense Finance and Accounting Service. EXCLUSION: This system does not include individuals who are indebted to a DoD agency and who have been identified as currently receiving pay from DoD.

Categories of records in the system:

Information varies depending on the debtor and the related history of debt billing and follow-up collection activity. These records may include name, Social Security Number, mailing address, original debt principal and the delinquent amount, basis of the debt, date debt arose, late payment charges, office referring the debt, collection efforts, credit reports, collection letters, due process notice, and records of e-mail, telephone, or written correspondence to or from the debtor relating to the debt.

Correspondence with other Federal agencies to initiate the collection of debts through voluntary or involuntary offset procedures against the indebted employees' salaries or compensation due a retiree.

Correspondence with other Federal agencies requesting administrative offset from payments owed to the debtor. These records may include individual's name, rank, date of birth, Social Security Number, debt amount, documentation establishing overpayment status, military pay records, financial status affidavits, credit references, and substantiating documents such as military pay orders, pay adjustment authorizations, military master pay account printouts, records of travel payments, financial record data folders, miscellaneous vouchers, debtor financial records, credit reports, promissory notes, and debtor financial statements.

Information on U.S. Treasury Department, Internal Revenue Service (IRS), U.S. Department of Justice, and U.S. General Accounting Office (GAO) inquiries, judicial proceedings regarding bankruptcy, pay account histories, and token payment information.

Applications for waiver of erroneous payment or for remission of indebtedness with supporting documents including statements of financial status (personal income and expenses), statements of commanders or Defense Accounting Officers, correspondence with debtors, or records of overpayments of Survivor Benefit Plan benefits.

Reports from probate courts regarding the estates of deceased debtors.

Reports from bankruptcy courts regarding claims of the U.S. Government against debtors.

Authority for maintenance of the system:

5 U.S.C. 301, Departmental Regulations, 5512, 5513, 5514, and 5584; 10 U.S.C. 1442, 1453, 2774, 2775, 9835; 31 U.S.C. 3325, 3342, 3526, 3701, 3702, 3711, 3716-3718; 32 U.S.C. 710, 716; 37 U.S.C. 1007(c); 40 U.S.C. 721, 723, 725, 726, 727, 728, 729; the Debt Collection Act of 1982 (Pub. L. 97-365, as amended by Pub. L. 104-134, the Debt Collection Improvement Act of 1996); Pub. L. 89-508; E.O. 9397 (SSN); and DoD 7000.14-R, Department of Defense Financial Management Regulation, Volume 5, Part Two.

Purpose(s):

To administratively manage the collection of debts owed to the Department of Defense (DoD). These debts include, but are not limited to, past due loan payments, overpayments, fines, interest, penalties, administrative fees, and amounts derived from damages, leases, and sales of real or personal property.

To implement the salary offset provisions of 5 U.S.C. 5514, the administrative offset provisions of 31 U.S.C. 3711 and 3716-3718, and the provisions of the Federal Claims Collection Standards (31 CFR parts 900-904), that apply to personal debts.

To permit collection of delinquent claims and debts owed to the U.S. Government under any program or service administered by any creditor DoD Component.

To determine the validity of waivers or to make referrals to the Defense Office of Hearings and Appeals (DOHA).

To maintain records of investigations conducted for the purpose of confirming, canceling, or determining if the debts are accurate or valid, and whether the debt should be remitted or waived.

All records in this system are subject to use in authorized computer matching programs within DoD and with other Federal agencies or non-Federal agencies as regulated by the Privacy Act of 1974 (5 U.S.C. 552a), as amended.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. General Accounting Office, the U.S. Department of the Justice, Internal Revenue Service, U.S. Department of Treasury, or other Federal agencies for further collection action on any delinquent account when circumstances warrant.

To commercial credit reporting agencies for the purpose of adding debt payment or non-payment data to a credit history file on an individual for use in the administration of debt collection. Delinquent debt information may be furnished for the purpose of establishing an inducement for debtors to pay their obligations to the U.S. Government.

To any Federal agency where the debtor is employed or receiving some type of payment from that agency for the purpose of collecting debts owed the U.S. Government by non-centralized offset. Non-centralized offset encompasses an offset program administered by any Federal agency other than the U.S. Department of Treasury. The agency holding the payment subject to offset will use the indebtedness information for collection purposes after counseling the debtor. The collection may be accomplished either voluntarily or involuntarily by initiating administrative or salary offset procedures under the provisions of the Debt Collection Act of 1982 (Pub. L. 97-365, as amended by Public Law 104-134, the Debt Collection Improvement Act of 1996).

To the U.S. Department of the Treasury (DOT) for centralized administrative or salary offset, including the offset of Federal income tax refunds, for the purpose of collecting debts owed the U.S. Government; to the DOT contracted private collection agencies for the purpose of obtaining collection services, including administrative wage garnishment (AWG) in accordance with the Debt Collection Improvement Act of 1996 (Pub. L. 104-134), 31 U.S.C. 3720D, and 31 CFR part 285, to recover moneys owed to the U.S. Government.

To the U.S. Department of Veteran Affairs for administration of laws pertaining to veterans' benefits.

To any Federal agency for the purpose of accomplishing the administrative procedures to collect or dispose of a debt owed to the U.S. Government. This includes, but is not limited to, the Office of Personnel Management for personnel management functions and the Internal Revenue Service to obtain a mailing address of a taxpayer for the purpose of locating such taxpayer to collect or compromise a Federal claim against the taxpayer pursuant to 26 U.S.C. 1603(m)(2), and in accordance with 31 U.S.C. 3711, 3217, and 3718. The Internal Revenue Service may also request locator service for delinquent accounts receivable in order to report closed out accounts as taxable income, including amounts compromised or terminated, and accounts barred from litigation due to age.

To any Federal, state, or local agency for the purpose of conducting an authorized computer-matching program to identify and locate delinquent debtors for recoupment of debts owed DoD.

To publish or otherwise publicly disseminate information regarding the identity of the debtor and the existence of the non-tax debt, subject to review by the Secretary of the Treasury.

The DoD “Blanket Routine Uses” published at the beginning of the DFAS compilation of record system notices also apply to this system.

Disclosure to consumer reporting agencies:

Disclosures pursuant to 5 U.S.C. 552a(b)(12) may be made from this system to “consumer reporting agencies” as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Paper file folders and electronic storage media.

Retrievability:

Retrieved by name, Taxpayer Identification Number, other identification number or system identifier, or name of accountable disbursing office in whose custody the public funds were entrusted when the debt arose.

Safeguards:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

Retention and disposal:

All cases will remain active until settled by full payment, waiver, write-off, or close out. The system contains records requiring a retention period of up to 10 years after final action. Records are retired to National Records Centers. Destruction is accomplished by tearing, shredding, pulping, macerating, or burning.

System manager(s) and address:

Chief, Debt Management Systems Division, Directorate of Debt and Claims Management, Defense Finance and Accounting Service, Indianapolis, 8899 E. 56th Street, Indianapolis, IN 46249-2700.

Notification procedure:

Individuals seeking to determine whether information about themselves is contained in this system should address written inquiries to the Defense Finance and Accounting Service—Indianapolis, DFAS-HAC/IN, 8899 E. 56th Street, Indianapolis, IN 46249-0150.

The individuals should furnish their name, Social Security Number, telephone number, and reasonably describe the information they are seeking.

Record access procedures:

Individuals seeking access to information about themselves contained in this system of records should address written inquiries to the Defense Finance and Accounting Service—Indianapolis, DFAS-HAC/IN, 8899 E. 56th Street, Indianapolis, IN 46249-0150.

The individuals should furnish their name, Social Security Numbers, and reasonably describe the information they are seeking.

Contesting record procedures:

The DFAS rules for accessing records, for contesting contents and appealing initial agency determinations are published in DFAS Regulation 5400.11-R; 32 CFR part 324; or may be obtained from the Freedom of Information/Privacy Act Program Manager, at Corporate Communications and Legislative Liaison, 8899 E. 56th Street, Indianapolis, IN 46249-0150.

Record source categories:

Records are obtained from the debtor, DFAS centers, other DoD organizations, and agencies of Federal state, and local governments, as applicable or appropriate for processing the case.

Exemptions claimed for the system:

None.

[FR Doc. E9-3509 Filed 2-18-09; 8:45 am]

BILLING CODE 5001-06-P